DEPARTMENT OF THE INTERIOR

Bureau of Land Management

[LLCA920000.L13100000.PP0000.13X]

Notice of Intent to Prepare an Environmental Impact Statement for Oil and Gas Leasing and Development on Public Lands and Federal Mineral Estate and Potentially Amend the Hollister Resource Management Plan, CA

AGENCY: Bureau of Land Management, Interior.

ACTION: Notice of Intent.

SUMMARY: In compliance with the National Environmental Policy Act of 1969, as amended (NEPA), and the Federal Land Policy and Management Act of 1976, as amended (FLPMA), the Bureau of Land Management (BLM) intends to prepare an Environmental Impact Statement (EIS) and potential resource management plan (RMP) amendment to evaluate oil and gas leasing and development on public lands and Federal mineral estate in the Hollister Field Office.

DATES: This notice initiates the public scoping process for the EIS. Comments on issues may be submitted in writing until October 4, 2013. The date(s) and location(s) of any scoping meetings will be announced at least 15 days in advance through local media, newspapers and the BLM Web site at: www.blm.gov/ca/eis-og. In order to be included in the Draft EIS, all comments must be received prior to the close of the 60-day scoping period or 15 days after the last public meeting, whichever is later. We will provide additional opportunities for public participation upon publication of the Draft EIS.

ADDRESSES: You may submit comments related to the Oil and Gas Leasing and Development EIS by any of the following methods:

• Web site: www.blm.gov/ca/eis-og

• Email: BLM_CA_OGEIS@blm.gov

• Fax: 916-978-4388

• Mail: 2800 Cottage Way, Rm. W-1623, Sacramento, CA 95825

Documents pertinent to this proposal may be examined at the BLM California State Office, 2800 Cottage Way, Sacramento, CA 95825.

FOR FURTHER INFORMATION CONTACT: Sara Acridge, Natural Resources Specialist, telephone 916-978-4557; address 2800 Cottage Way, Rm. W-1623, Sacramento, CA 95825; email BLM_CA_OGEIS@blm.gov. You may contact Ms. Acridge to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is initiating a planning process to address oil and gas development on public lands and Federal mineral estate in the Hollister Field Office. This Federal Register notice initiates a scoping period to solicit public input on that process. This is the first phase of a process that may lead to the amendment of the Hollister RMP (2006). The BLM may also use this process to consider amending RMPs for other field offices in California with oil and gas leasing and development (Bakersfield, Palm Springs-South Coast, Mother Lode, and Ukiah Field Offices).

The outcome of this effort to prepare an oil and gas leasing and development EIS may provide information for the BLM to potentially amend the Hollister RMP in order to establish additional stipulations, conditions of approval, best management practices, or terms and conditions to further guide safe and responsible lease development practices. The EIS will also analyze various current or reasonably foreseeable well completion and stimulation practices, including hydraulic fracturing and the use of horizontal drilling, in the Hollister Field Office. The EIS will further analyze a potential update to the reasonably foreseeable development scenario.

In addition to this planning effort the BLM is concurrently initiating a separate peer-reviewed, interdisciplinary assessment of the current state of industry practices for well completion and stimulation in California. This assessment of well completion and stimulation practices will include maps, findings, and synthesized sets of data that will inform the BLM's environmental analysis documents for subsequent oil and gas lease sales. It is anticipated that the information generated by this assessment will be used to inform the planning process.

During the scoping process for this EIS, the high degree of public attention to oil and gas development will provide the BLM with input regarding the suite of oil and gas leasing and development issues and geographic areas that are of most concern to the public. The scoping process will also provide input to assist the BLM in fully developing a range of potential RMP amendment alternatives to address leasing and development and well completion and stimulation practices of concern to the public. In conjunction with the independent science assessment, the BLM will use the results of scoping to refine the geographic scope of the potential plan amendment. In addition, information resulting from the planning and science review will further inform future oil and gas leasing decisions.

The purpose of the public scoping process is to determine relevant issues that will influence the scope of the environmental analysis, including alternatives, and guide the process for developing the EIS. Preliminary issues for oil and gas leasing and development to be addressed within the Hollister planning area have been identified by BLM personnel, Federal, State, and local agencies, and other stakeholders, and include: surface water, groundwater, and air quality; greenhouse gases and climate change; the environmental effects of chemicals, if any, used; the potential for induced seismicity; endangered and threatened species; public health and safety; and socioeconomics.

With respect to the potential RMP amendment, preliminary planning criteria include:

• The potential plan amendment will be completed in compliance with FLPMA, NEPA, and all other Federal laws, executive orders, and management policies for the BLM.

• The potential plan amendment will retain the existing resource condition goals and objectives in the Hollister RMP.

• The potential plan amendment will analyze impacts to areas that are currently open to leasing and will not consider opening areas to leasing that are currently closed.

• The potential plan amendment will recognize valid existing rights.

You may submit comments on issues and planning criteria in writing to the BLM at any public scoping meeting, or by using one of the methods listed in the “ADDRESSES” section above.

The BLM will follow NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be duly considered.

Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

James V. Scrivner,
Deputy State Director, Energy and Minerals.

[FR Doc. 2013-18839 Filed 8-2-13; 8:45 am]

BILLING CODE 4310-40-P